NATIONAL CREDIT UNION ADMINISTRATION

Sunshine Act Meeting

TIME AND DATE: 10:00 a.m., Thursday, April 20, 2023.

PLACE: Board Room, 7th Floor, Room 7B, 1775 Duke Street (All visitors must use Diagonal Road Entrance), Alexandria, VA 22314-3428.

STATUS: Open.

MATTERS TO BE CONSIDERED:

1. Board Briefing, Cybersecurity Update.

2. Request for Information and Comment, Climate-Related Financial Risk.

3. Board Briefing, Federal Credit Union Loan Interest Rate Ceiling.

RECESS: 12:15 p.m.

TIME AND DATE: 12:30 p.m., Thursday, April 20, 2023.

PLACE: Board Room, 7th Floor, Room 7B, 1775 Duke Street, Alexandria, VA 22314-3428.

STATUS: Closed.

MATTER TO BE CONSIDERED:

1. Administrative Enforcement Action. Closed pursuant to Exemptions (4), (5), (6), (7), (8), and (9).

FOR FURTHER INFORMATION CONTACT: Melane Conyers-Ausbrooks, Secretary of the Board, Telephone: 703-518-6304.

Melane Conyers-Ausbrooks,
Secretary of the Board.

[FR Doc. 2023-08227 Filed 4-14-23; 11:15 am]

BILLING CODE 7535-01-P